DEPARTMENT OF DEFENSE

Department of the Navy

32 CFR Part 706

Certifications and Exemptions Under the International Regulations for Preventing Collisions at Sea, 1972

AGENCY: Department of the Navy, DoD.

ACTION: Final rule.

SUMMARY: The Department of the Navy (DoN) is amending its certifications and exemptions under the International Regulations for Preventing Collisions at Sea, 1972 (72 COLREGS), to reflect that the Deputy Assistant Judge Advocate General (DAJAG) (Admiralty and Maritime Law) has determined that certain vessels of the PC-1 Class are vessels of the Navy which, due to their special construction and purpose, cannot fully comply with certain provisions of the 72 COLREGS without interfering with their special functions as naval ships. The intended effect of this rule is to warn mariners in waters where 72 COLREGS apply.

DATES: This rule is effective September 24, 2010 and is applicable beginning September 8, 2010.

FOR FURTHER INFORMATION CONTACT: Lieutenant Commander Ted Cook, JAGC, U.S. Navy, Admiralty Attorney, (Admiralty and Maritime Law), Office of the Judge Advocate General, Department of the Navy, 1322 Patterson Ave., SE., Suite 3000, Washington Navy Yard, DC 20374-5066, telephone number: 202-685-5040.

SUPPLEMENTARY INFORMATION: Pursuant to the authority granted in 33 U.S.C. 1605, the DoN amends 32 CFR part 706.

This amendment provides notice that the DAJAG (Admiralty and Maritime Law), under authority delegated by the Secretary of the Navy, has certified that certain vessels of the PC-1 Class are vessels of the Navy which, due to their special construction and purpose, cannot fully comply with the following specific provisions of 72 COLREGS without interfering with their special function as naval ships: Rule 21(a) pertaining to the arc of visibility of a masthead light. The DAJAG (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), and Vessels.

For the reasons set forth in the preamble, the DoN amends part 706 of title 32 of the CFR as follows:

PART 706—CERTIFICATIONS AND EXEMPTIONS UNDER THE INTERNATIONAL REGULATIONS FOR PREVENTING COLLISIONS AT SEA, 1972

1. The authority citation for part 706 continues to read as follows:

Authority: 33 U.S.C. 1605.

2. Section 706.2 is amended in Table Three by removing the entry for USS Zephyr and revising the following entries for the PC-1 Class to read as follows:

§ 706.2 Certifications of the Secretary of the Navy under Executive Order 11964 and 33 U.S.C. 1605.

* * * * *

Table Three
Vessel | No. | Masthead lights arc of visibility; rule 21(a) | Side lights arc of visibility; rule 21(b) | Stern light arc of visibility; rule 21(c) | Side lights distance inboard of ship's sides in meters 3(b) annex 1 | Stern light, distance forward of stern in meters; rule 21(c) | Forward anchor light, height above hull in meters; 2(K) annex 1 | Anchor lights relation-ship of aft light to forward light in meters 2(K) annex 1
* * * * * * *
USS TEMPEST | PC 2 | (²) |  |  |  | ¹ 28.3 | 3.0 | 1.1 below.
USS HURRICANE | PC 3 | (²) |  |  |  | ¹ 28.5 | 3.0 | 1.1 below.
USS MONSOON | PC 4 | (²) |  |  |  | ¹ 28.3 | 3.0 | 1.1 below.
USS TYPHOON | PC 5 | (²) |  |  |  | ¹ 28.5 | 3.0 | 1.1 below.
USS SIROCCO | PC 6 | (²) |  |  |  | ¹ 28.5 | 3.0 | 1.1 below.
USS SQUALL | PC 7 | (²) |  |  |  | ¹ 28.5 | 3.0 | 1.1 below.
USS CHINOOK | PC 9 | (²) |  |  |  | ¹ 28.5 | 3.0 | 1.1 below.
USS FIREBOLT | PC 10 | (²) |  |  |  | ¹ 28.5 | 3.0 | 1.1 below.
USS WHIRLWIND | PC 11 | (²) |  |  |  | ¹ 28.5 | 3.0 | 1.1 below.
USS THUNDERBOLT | PC 12 | (²) |  |  |  | ¹ 28.5 | 3.0 | 1.1 below.
* * * * * * *
¹ Only when towing
² Lower forward masthead light (used for towing) is partially blocked at angles plus or minus 8.5 degrees off centerline; this light is used only when tow exceeds 200 meters from the stern of the ship to aft end of tow.

Approved: September 8, 2010.
M. Robb Hyde,
Commander, JAGC, U.S. Navy, Deputy Assistant Judge Advocate, General (Admiralty and Maritime Law).

[FR Doc. 2010-23749 Filed 9-23-10; 8:45 am]

BILLING CODE 3810-FF-P